DEPARTMENT OF THE TREASURY

Internal Revenue Service

26 CFR Part 1

[REG-105801-00]

RIN 1545-AX92

Capitalization of Interest and Carrying Charges Properly Allocated to Straddles; Correction

AGENCY: Internal Revenue Service (IRS), Treasury.

ACTION: Correction to notice of proposed rulemaking.

SUMMARY: This document contains corrections to proposed regulations that were published in the Federal Register on January 18, 2001 (66 FR 4746). The regulations clarify the application of the straddle rules to a variety of financial instruments.

FOR FURTHER INFORMATION CONTACT: Kenneth Christman (202) 622-3950 (not a toll-free number).

SUPPLEMENTARY INFORMATION:

Background

These proposed regulations that are the subject of this correction are under sections 1092 and 263(g) of the Internal Revenue Code.

Need for Correction

As published, these proposed regulations (REG-105801-00) contain errors that may prove to be misleading and are in need of clarification.

Correction of Publication

Accordingly, the publication of the proposed regulations (REG-105801-00), which were the subject of FR. Doc. 01-1240, is corrected as follows:

§ 1.263(g)-4 [Corrected]

1. On page 4750, column 3, § 1.263(g)-4, paragraph (c), paragraph (ii) of Example 2, line 3, the language “of z ounces of silver. Consequently, A's” is corrected to read “of y ounces of silver. Consequently, A's”.

2. On page 4751, column 1, § 1.263(g)-4, paragraph (c), paragraph (i) of Example 5, line 9, the language “the holder would receive an annual payment” is corrected to read “the holders would receive an annual payment”.

Cynthia E. Grigsby,
Chief, Regulations Unit, Office of Special Counsel (Modernization and Strategic Planning).

[FR Doc. 01-8047 Filed 3-30-01; 8:45 am]

BILLING CODE 4830-01-P